DEPARTMENT OF LABOR

Employment and Training Administration

[TA-W-39,286A]

M. Fine & Sons Manufacturing Co., Inc. Loretto, TN; Amended Certification Regarding Eligibility To Apply for Worker Adjustment Assistance

In accordance with section 223 of the Trade Act of 1974 (19 U.S.C. 2273) the Department of Labor issued a Notice of Certification Regarding Eligibility to Apply for Worker Adjustment Assistance on June 26, 2001, applicable to workers of M. Fine & Sons Manufacturing Company, Inc., Loretto, Tennessee. The notice was published in the Federal Register on July 11, 2001 (FR 66 36329).

At the request of the State agency, the Department reviewed the certification for workers of the subject firm. The workers are engaged in the production of primarily men's and boys' pants and shirts. New findings show that the Department incorrectly issued the certification to “all workers” of the Loretto, Tennessee location of M. Fine & Sons Manufacturing Company, Inc. A previous certification, TA-W-38,200, was issued on December 27, 2000, for workers of the subject firm's Loretto, Tennessee location limited to workers who were engaged in employment related to the production of blue jean finishing. That certification expires December 27, 2002.

The Department is amending the certification determination to exclude workers, employed at the Loretto, Tennessee location, who are engaged in employment related to the production of blue jean finishing, who are previously covered under TA-W-38,200.

The intent of the Department's certification is to include all workers of M. Fine and Sons Manufacturing Company, Inc., Loretto, Tennessee.

The amended notice applicable to TA-W-39,286A is hereby issued as follows:

All workers of M. Fine & Sons Manufacturing Co., Inc., Loretto, Tennessee, excluding those workers engaged in employment related to the production of blue jean finishing, who are covered by TA-W-38,200, who became totally or partially separated from employment on or after May 3, 2000, through June 26, 2003, are eligible to apply for adjustment assistance under Section 223 of the Trade Act of 1974.

Signed at Washington, DC this 16th day of July, 2001.
Linda G. Poole,
Certifying Officer, Division of Trade Adjustment Assistance.

[FR Doc. 01-20477 Filed 8-14-01; 8:45 am]

BILLING CODE 4510-30-M